DEPARTMENT OF HEALTH AND HUMAN SERVICES

Administration for Community Living

RIN 0985-AA17

Request for Information: Older Americans Act Regulations

AGENCY: Administration for Community Living, Department of Health and Human Services.

ACTION: Request for information.

SUMMARY: The Acting Assistant Secretary for Aging and Administrator of the Administration for Community Living (ACL) seeks information on recommended changes, additions, or deletions to Code of Federal Regulation's section on Grants to State and Community Programs on Aging; Grants to Indian Tribes for Support and Nutrition Services; Grants for Supportive and Nutritional Services to Older Hawaiian Natives; and Allotments for Vulnerable Elder Rights Protection Activities, including Subpart A—State Long-Term Care Ombudsman Program.

DATES: Information must be submitted electronically by 11:59 p.m. (EST) by June 6, 2022.

ADDRESSES: Interested persons are encouraged to submit electronic comments to: Administration on Aging, OAAregulations@acl.hhs.gov. Include “OAA Regulations” in the subject line of the message.

FOR FURTHER INFORMATION CONTACT: Caldwell Jackson, (202) 795-7368 Caldwell.Jackson@acl.hhs.gov. The email is a resource mailbox established to receive public input regarding Older Americans Act regulations and should not be used to request information beyond the scope of this public input opportunity.

SUPPLEMENTARY INFORMATION: The Administration for Community Living's (ACL) Administration on Aging (AoA) is requesting information to gather feedback on recommended changes, additions, or deletions to regulations for programs authorized under Titles III, VI, and VII of the Older Americans Act, 42 U.S.C. 3001 et seq.

First passed in 1965, the Older Americans Act (the Act) authorizes supportive, nutrition, evidence-based disease prevention and health promotion, caregiver, legal, long-term care ombudsman, and other services provided via states, territories, tribes and tribal organizations, area agencies on aging, and local service providers. The Act was last reauthorized on March 25, 2020. Current regulations for programs authorized under the Act date from 1988, and have not been substantively revised, with the exception of portions of 45 CFR part 1321—Grants to State and Community Programs on Aging, specific to State responsibilities regarding the State Long-Term Care Ombudsman Program, and 45 CFR part 1324 Allotments for Vulnerable Elder Rights Protection Activities, Subpart A—State Long-Term Care Ombudsman Program, which were published in 2015. In the absence of valid and current regulations, there is the potential for significant variation in the interpretation and implementation of these provisions among States.

Public Input

Through this Request for Information (RFI), ACL is seeking input from individuals and organizations regarding supportive, nutrition, evidence-based disease prevention and health promotion, caregiver, legal, long-term care ombudsman, and other services provided via states, tribes and tribal organizations, area agencies on aging, and local service providers under the Act. Specifically, we would like to learn from respondents based on their experience about: (1) Challenges faced by older adults, elders, and family caregivers in receiving services under the Act, and (2) challenges faced by states, territories, tribes and tribal organizations, area agencies on aging and service providers in delivering services under the Act. We also seek feedback on how OAA programs can advance equity, in alignment with Executive Order 13985 Advancing Racial Equity and Support for Underserved Communities Through the Federal Government. In this regard, please keep in mind the following:

• All submissions will be considered and reviewed by ACL.

• ACL seeks recommendations to address practical matters regarding regulations to implement the Older Americans Act, as reauthorized in 2020. (We may not be able to include all recommendations.)

• If respondents have multiple recommendations, respondents may make multiple recommendations in the same submission.

Submission Questions

1. State the regulation for which the comment applies:

a. 45 CFR part 1321—Grants to State and Community Programs on Aging;

b. 45 CFR part 1322—Grants to Indian Tribes for Support and Nutrition Services;

c. 45 CFR part 1323—Grants for Supportive and Nutritional Services to Older Hawaiian Natives; or

d. 45 CFR part 1324 Allotments for Vulnerable Elder Rights Protection Activities, including Subpart A—State Long-Term Care Ombudsman Program.

2. State the citation to which the comment applies, if applicable (for example, “45 CFR part 1321.1”).

3. State the nature of the comment:

a. Deletion.

b. Addition.

c. Change.

4. Provide detail on the reason for ACL to consider the comment for potential inclusion in a revision of Older Americans Act regulations.

5. Provide detail on any benefits, including how equity will be advanced, and/or barriers that might result from incorporating the recommendation in a revision of Older Americans Act regulations.

Please Note: This RFI is being issued for information and planning purposes only. It should not be construed as a solicitation or an obligation on the part of the federal government or the Administration for Community Living (ACL). ACL does not intend to issue any grant or contract awards based on responses to this invitation, or to otherwise pay for the preparation of any information submitted or for the government's use of such information. ACL is not authorized to receive personally identifiable information (PII) through this RFI other than the contact information of the person submitting the information. Please do not include any PII in your submission. For example, do not include names, addresses, phone or Social Security numbers of any individuals. We will redact responses that contain PII.

How the Information Will Be Used

ACL is planning to update regulations for programs authorized under Titles III, VI, and VII of the Older Americans Act. The information gathered through this RFI will be used to inform ACL's approach to updating these regulations.

Background

Congress passed the Older Americans Act (OAA) in 1965 in response to concern by policymakers about a lack of community social services for older persons. The original legislation established authority for grants to states for community planning and social services, research and development projects, and personnel training in the field of aging. The law also established the Administration on Aging (AoA) to administer the newly created grant programs and to serve as the federal focal point on matters concerning older persons.

Although older individuals may receive services under many other federal programs, today the OAA is considered to be a major vehicle for the organization and delivery of social and nutrition services to this group and their caregivers. It authorizes a wide array of service programs through a national network of 56 state agencies on aging, 618 area agencies on aging, nearly 20,000 service providers, 281 Tribal organizations, representing 400 Tribes, and 1 Native Hawaiian organization. The OAA was most recently reauthorized on March 25, 2020.

Dated: May 2, 2022.
Alison Barkoff,
Acting Assistant Secretary for Aging and Administrator, Administration for Community Living.
Dated: May 2, 2022.
Xavier Becerra,
Secretary, Department of Health and Human Services.

[FR Doc. 2022-09713 Filed 5-5-22; 8:45 am]

BILLING CODE 4154-01-P